DEPARTMENT OF HEALTH AND HUMAN SERVICES

National Institutes of Health

Center for Scientific Review; Amended Notice of Meeting

Notice is hereby given of a change in the meeting of the Center for Scientific Review Special Emphasis Panel, March 15, 2006, 3 p.m. to March 15, 2006, 5 p.m., National Institutes of Health, 6701 Rockledge Drive, Bethesda, MD 20892 which was published in the Federal Register on February 28, 2006, 71 FR 10041-10043.

The meeting will be held April 10, 2006. The meeting time and location remain the same. The meeting is closed to the public.

Dated: March 16, 2006.
Anna Snouffer,
Acting Director, Office of Federal Advisory Committee Policy.

[FR Doc. 06-2818 Filed 3-22-06; 8:45 am]

BILLING CODE 4140-01-M